DEPARTMENT OF LABOR

Employment and Training Administration

[TA-W-38,650]

Rayovac Corporation, Wonewoc Plant, Wonewoc, WI; Notice of Termination of Investigation

Pursuant to section 221 of the Trade Act of 1974, an investigation was initiated on February 5, 2001, in response to a worker petition which was filed by the company on behalf of its workers at Rayovac Corporation, Wonewoc Plant, located in Wonewoc, Wisconsin.

The petitioner has requested that the petition be withdrawn. Consequently, further investigation in this case would serve no purpose, and the investigation has been terminated.

Signed in Washington, DC this 9th day of March, 2001.
Linda G. Poole,
Certifying Officer, Division of Trade Adjustment Assistance.

[FR Doc. 01-8326 Filed 4-4-01; 8:45 am]

BILLING CODE 4510-30-M